DEPARTMENT OF ENERGY

Federal Energy Regulatory Commission

Combined Notice of Filings #1

Take notice that the Commission received the following exempt wholesale generator filings:

Docket Numbers: EG20-13-000.

Applicants: Key Capture Energy.

Description: Notice of Self-Certification of EWG Status KCE TX 2, LLC.

Filed Date: 10/24/19.

Accession Number: 20191024-5061.

Comments Due: 5 p.m. ET 11/14/19.

Docket Numbers: EG20-14-000.

Applicants: Key Capture Energy.

Description: Notice of Self-Certification of EWG Status of KCE TX 8, LLC.

Filed Date: 10/24/19.

Accession Number: 20191024-5084.

Comments Due: 5 p.m. ET 11/14/19.

Docket Numbers: EG20-15-000.

Applicants: Key Capture Energy.

Description: Notice of Self-Certification of EWG Status of KCE TX 7, LLC.

Filed Date: 10/24/19.

Accession Number: 20191024-5085.

Comments Due: 5 p.m. ET 11/14/19.

Docket Numbers: EG20-16-000.

Applicants: Amadeus Wind, LLC.

Description: Notice of Self-Certification of Exempt Wholesale Generator Status of Amadeus Wind, LLC.

Filed Date: 10/24/19.

Accession Number: 20191024-5086.

Comments Due: 5 p.m. ET 11/14/19.

Take notice that the Commission received the following electric rate filings:

Docket Numbers: ER20-157-001.

Applicants: PJM Interconnection, L.L.C.

Description: Tariff Amendment: Amendment to Docket No. ER20-157-000 to be effective 11/12/2019.

Filed Date: 10/24/19.

Accession Number: 20191024-5060.

Comments Due: 5 p.m. ET 11/14/19.

Docket Numbers: ER20-175-000.

Applicants: Midcontinent Independent System Operator, Inc., Otter Tail Power Company.

Description: § 205(d) Rate Filing: 2019-10-23_Otter Tail Power Attachment GG Filing to be effective 1/1/2020.

Filed Date: 10/23/19.

Accession Number: 20191023-5125.

Comments Due: 5 p.m. ET 11/13/19.

Docket Numbers: ER20-176-000.

Applicants: Midcontinent Independent System Operator, Inc., Otter Tail Power Company.

Description: § 205(d) Rate Filing: 2019-10-23_Otter Tail Power Attachment O Filing to be effective 1/1/2020.

Filed Date: 10/23/19.

Accession Number: 20191023-5126.

Comments Due: 5 p.m. ET 11/13/19.

Docket Numbers: ER20-177-000.

Applicants: Arizona Public Service Company.

Description: Tariff Cancellation: Rate Schedule Nos. 242, 244, and 288 Cancellations to be effective 12/23/2019.

Filed Date: 10/23/19.

Accession Number: 20191023-5134.

Comments Due: 5 p.m. ET 11/13/19.

Docket Numbers: ER20-178-000.

Applicants: Niagara Mohawk Power Corporation, New York Independent System Operator, Inc.

Description: § 205(d) Rate Filing: Cost Reimbursement Agreement (SA 2486) re: Niagara Mohawk and O'Brien and Gere to be effective 9/25/2019.

Filed Date: 10/24/19.

Accession Number: 20191024-5000.

Comments Due: 5 p.m. ET 11/14/19.

Docket Numbers: ER20-179-000.

Applicants: California Independent System Operator Corporation.

Description: Petition for Approval of Disposition of Proceeds of Penalty Assessments and Non-Refundable Interconnection Financial Security of California Independent System Operator Corporation.

Filed Date: 10/23/19.

Accession Number: 20191023-5136.

Comments Due: 5 p.m. ET 11/13/19.

Docket Numbers: ER20-180-000.

Applicants: Crazy Mountain Wind LLC.

Description: Tariff Cancellation: Cancellation of Tariff to be effective 10/25/2019.

Filed Date: 10/24/19.

Accession Number: 20191024-5050.

Comments Due: 5 p.m. ET 11/14/19.

Docket Numbers: ER20-181-000.

Applicants: Cimarron Windpower II, LLC.

Description: Compliance filing: MBR Tariff Language Clean-up Filing to be effective 12/24/2019.

Filed Date: 10/24/19.

Accession Number: 20191024-5062.

Comments Due: 5 p.m. ET 11/14/19.

Docket Numbers: ER20-182-000.

Applicants: Ironwood Windpower, LLC.

Description: Compliance filing: MBR Tariff Language Clean-up Filing to be effective 12/24/2019.

Filed Date: 10/24/19.

Accession Number: 20191024-5063.

Comments Due: 5 p.m. ET 11/14/19.

Docket Numbers: ER20-183-000.

Applicants: Caprock Solar I LLC.

Description: Compliance filing: MBR Tariff Language Clean-up Filing to be effective 12/24/2019.

Filed Date: 10/24/19.

Accession Number: 20191024-5064.

Comments Due: 5 p.m. ET 11/14/19.

Docket Numbers: ER20-184-000.

Applicants: Frontier Windpower, LLC.

Description: Compliance filing: MBR Tariff Language Clean-up Filing to be effective 12/24/2019.

Filed Date: 10/24/19.

Accession Number: 20191024-5067.

Comments Due: 5 p.m. ET 11/14/19.

Docket Numbers: ER20-185-000.

Applicants: Southern California Edison Company.

Description: § 205(d) Rate Filing: LGIA Solar Star 3, LLC SA No. 235 to be effective 10/25/2019.

Filed Date: 10/24/19.

Accession Number: 20191024-5089.

Comments Due: 5 p.m. ET 11/14/19.

Docket Numbers: ER20-186-000.

Applicants: Southern California Edison Company.

Description: § 205(d) Rate Filing: LGIA Solar Star 4, LLC SA No. 236 to be effective 10/25/2019.

Filed Date: 10/24/19.

Accession Number: 20191024-5091.

Comments Due: 5 p.m. ET 11/14/19.

Docket Numbers: ER20-187-000.

Applicants: Southern California Edison Company.

Description: Tariff Cancellation: Notice of Cancellation LGIA AES Redondo Beach SA No. 64 to be effective 10/1/2019.

Filed Date: 10/24/19.

Accession Number: 20191024-5092.

Comments Due: 5 p.m. ET 11/14/19.

Docket Numbers: ER20-188-000.

Applicants: Southern California Edison Company.

Description: § 205(d) Rate Filing: 2019 Revised Added Facilities Rate for the Rate Schedules to be effective 7/26/2019.

Filed Date: 10/24/19.

Accession Number: 20191024-5093.

Comments Due: 5 p.m. ET 11/14/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2019.
Kimberly D. Bose,
Secretary.

[FR Doc. 2019-23698 Filed 10-29-19; 8:45 am]

BILLING CODE 6717-01-P